DEPARTMENT OF COMMERCE

National Oceanic and Atmospheric Administration

RIN 0648-XD430

New England Fishery Management Council; Public Meeting

AGENCY: National Marine Fisheries Service (NMFS), National Oceanic and Atmospheric Administration (NOAA), Commerce.

ACTION: Notice; public meeting.

SUMMARY: The New England Fishery Management Council's (Council) Scientific and Statistical Committee (SSC) Peer Review Panel will meet over two days to review scientific information affecting New England fisheries in the exclusive economic zone (EEZ), and more specifically the management of Gulf of Maine cod.

DATES: The meeting will be held on Thursday, August 28, 2014 beginning at 9:30 a.m. and Friday, August 29, 2014 beginning at 9 a.m.

ADDRESSES: Meeting Address: The meeting will be held at the Sheraton Harborside Hotel, 250 Market Street, Portsmouth, NH 03801; telephone: (603) 431-2300; fax: (603) 433-5649.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda Items

The SSC Peer Review Panel will meet to review an updated assessment for the Gulf of Maine cod stock prepared by the NMFS Northeast Fisheries Science Center. The panel will prepare a report of its review, although the panel may not complete the report at this meeting, for consideration by New England Fishery Management Council in developing management measures for Gulf of Maine cod. The review panel may close the meeting to the public at some time to work on drafting a report.

Special Accommodations

This meeting is physically accessible to people with disabilities. Requests for sign language interpretation or other auxiliary aids should be directed to Thomas A. Nies (see ADDRESSES) at least 5 days prior to the meeting date.

Authority: 16 U.S.C. 1801 et seq.

Dated: August 8, 2014.
Tracey L. Thompson,
Acting Deputy Director, Office of Sustainable Fisheries, National Marine Fisheries Service.

[FR Doc. 2014-19115 Filed 8-12-14; 8:45 am]

BILLING CODE 3510-22-P